DEPARTMENT OF TRANSPORTATION

Federal Aviation Administration

Sec. 221 Public Private Partnerships Public Meeting

AGENCY: Federal Aviation Administration, Department of Transportation.

ACTION: Notice of meeting.

SUMMARY: The FAA is conducting a public meeting on May 30 to seek initial input from interested stakeholders about program design and implementation of an equipage incentives program for commercial aircraft and general aviation to equip their aircraft with Next Generation Air Transportation (NextGen) capabilities, pursuant to the FAA's authority in the FAA Modernization and Reform Act of 2012 (sec. 221). The statute requires that such a program be based on public-private partnership (PPP) principles and maximize the use of private sector capital. The purpose of this meeting is to serve as an information sharing session. The FAA is interested in engaging stakeholders and potential public-private partners in the process of developing an effective public-private partnership equipage incentive program.

This notice is for the initial meeting. A subsequent meeting will be planned within 90 days of the May 30 meeting after FAA has assessed stakeholder comments and feedback and further solidified its policy on how to implement a PPP equipage incentives program.

FOR FURTHER INFORMATION CONTACT: Ann Tedford, Office of Finance and Management: Telephone (202) 267-8930: Email: 9-AWA-APO-NextGenIncentives@faa.gov.

SUPPLEMENTARY INFORMATION:

Background

The FAA Modernization and Reform Act of 2012 granted authority for the Secretary of Transportation to establish an equipage incentive program to equip US registered aircraft operating in the National Airspace System (NAS) in the interest of achieving NextGen capabilities. The authority states a loan guarantee program could be established either using appropriated funds or by fees and premiums. The FAA is working to understand what options exist for establishing the most effective program possible even if it receives no additional appropriations to fund the incentive. In addition, the FAA must have the authority to enter into a loan guarantee program recognized in an appropriations Act in accordance with the Federal Credit Reform Act of 1990.

The goal for an equipage program would be to encourage deployment of NextGen capable aircraft in the NAS sooner than would have occurred otherwise. Specifically, FAA would aim to increase the speed of adoption of base levels of NextGen equipage (equipage bundles), which will accelerate delivery of NextGen benefits by reducing the time of mixed equipage operations. The FAA is examining various methods of reducing the Government's risk and determining the extent of industry interest in the program, but we need more information for our analysis. The May 30 meeting is therefore intended to share FAA's preliminary thinking and seek industry feedback about what factors are beneficial to the various stakeholders, if such a program were to be created.

Meeting Information

Public meeting at FAA Headquarters (800 Independence Avenue SW., Washington, DC 20591) on May 30, 2012, from 9:00 am to 12:30 pm. The meeting will also be available to view live on-line. RSVPs will be required for meeting attendance as well as Web cast viewing. RSVP by May 25 to: 9-AWA-APO-NextGenIncentives@faa.gov. Background material, meeting agenda, and details of participation webcast for the May 30 meeting can be obtained at: http://www.faa.gov/about/initiatives/equipage_incentives/.

As the financial authority granted to FAA in Section 221 of the FAA Modernization and Reform Act is new, the agency believes that stakeholder input is necessary in order to optimize the design of an effective equipage incentives plan. Input from interested stakeholders will help inform the direction the FAA should take and raise issues that the agency might not have considered internally. A list of questions FAA seeks comment on is on display at: http://www.faa.gov/about/initiatives/equipage_incentives/.

Comments specifically addressing these questions will be accepted through June 20 and should be submitted to: 9-AWA-APO-NextGenIncentives@faa.gov.

The FAA will also provide the opportunity for private meetings and written responses. We recognize that some of the information we are seeking might be considered proprietary or commercially sensitive. We will take all steps needed to protect any information provided that is marked proprietary or commercially sensitive.

Issued in Washington, DC, on May 14, 2012.
Julie Oettinger,
Assistant Administrator for Policy, International Affairs and Environment.

[FR Doc. 2012-12378 Filed 5-21-12; 8:45 am]

BILLING CODE 4910-13-P